DEPARTMENT OF DEFENSE

Department of the Army; Corps of Engineers

Board on Coastal Engineering Research

AGENCY: Department of the Army, DoD.

ACTION: Notice of Advisory Committee meeting.

SUMMARY: The Department of the Army is publishing this notice to announce the following Federal advisory committee meeting of the Board on Coastal Engineering Research. This meeting is open to the public.

DATES: The Board on Coastal Engineering Research will meet from 8:00 a.m. to 5:00 p.m. on March 18, 2014, and reconvene from 8:00 a.m. to 12:00 p.m. on March 19, 2014.

ADDRESSES: Both sessions of the meeting will be held in the Washington Room, Fort Hamilton Community Club, 207 Sterling Drive, Brooklyn, NY 11252.

FOR FURTHER INFORMATION CONTACT: Colonel Jeffrey R. Eckstein, Designated Federal Officer (DFO) and Executive Secretary, U.S. Army Engineer Research and Development Center, Waterways Experiment Station, 3909 Halls Ferry Road, Vicksburg, MS 39180-6199, phone 601-634-2513, or Jeffrey.R.Eckstein@usace.army.mil.

SUPPLEMENTARY INFORMATION: The meeting is being held under the provisions of the Federal Advisory Committee Act (FACA) of 1972 (5 U.S.C., Appendix, as amended), the Government in the Sunshine Act of 1976 (5 U.S.C. 552b, as amended), and 41 CFR 102-3.150. The Board on Coastal Engineering Research provides broad policy guidance and reviews plans for the conduct of research and the development of research projects in consonance with the needs of the coastal engineering field and the objectives of the U.S. Army Chief of Engineers.

Purpose of the Meeting: The purpose of the meeting is for the Board to discuss its accomplishments and impacts; contemporary Coastal Research, Development and Technology (RD&T) priorities and accomplishments; review U.S. Army the Chief of Engineers' Charge to the Board and discuss knowledge gaps, and receive a status report on the Field Research Facility Experiment Series in Fiscal Years 2015/2016.

Agenda: On Tuesday morning, March 18, 2014, the Board will review past initiatives and where they stand today, including a discussion of: contemporary coastal research, development and technology priorities; accomplishments, including Hurricane Sandy initiatives; infrastructure; and other Civil Works research areas. Tuesday afternoon will be devoted to a discussion of the Chief of Engineers' Charge to the Board.

On Wednesday morning, March 19, 2014, the Board will reconvene to review and discuss knowledge gaps identified through and assessment of the Chief's Charge and through RD&T involvement in Hurricane Sandy response and recovery. In addition, the Board will receive a status report on experiment planning and expectations for the Field Research Facility Experiment Series for Fiscal Years 2015/2016. The meeting will close with a discussion about potential topics to consider in the context of the next Board meeting.

Meeting Accessibility: Pursuant to 5 U.S.C. 552b, as amended, and 41 CFR 102-3.140 through 102-3.165, and subject to the availability of space, the meeting is open to the public. Because seating capacity is limited, advance registration is required. Registration can be accomplished as set forth below. Because the meeting of the Board will be held in a Federal Government facility on a military base (Fort Hamilton Military Community), security screening is required. A photo ID is required to enter the base. The name of each person seeking entry will be checked against the list of names of those persons who have registered to attend the meeting. Individuals will be directed to the Fort Hamilton Community Club. Please note that Fort Hamilton guards have the right to inspect vehicles seeking to enter and exit the base. Anyone arriving the base on foot may be required to proceed through a metal detector and the guards may exercise the right to search bags and belongings. The Fort Hamilton Community Club is fully handicap accessible. Wheelchair access is available from the rear entrance of the building.

Written Comments of Statements: Pursuant to 41 CFR 102-3.015(j) and 102-3.140 and section 10(a)(3) of the FACA, the public or interested organizations may submit written comments or statements to the Board, in response to the stated agenda of the open meeting or in regard to the Board's mission in general. Written comments or statements should be submitted to Colonel Jeffrey R. Eckstein, DFO, via electronic mail, the preferred mode of submission, as the address listed in the FOR FURTHER INFORMATION CONTACT section. Each page of the comment or statement must include the author's name, title or affiliation, address, and daytime phone number. The DFO will review all submitted written comments or statements and provide them to members of the Board for their consideration. Written comments or statements being submitted in response to the agenda set forth in this notice must be received by the DFO at least five calendar days prior to the meeting to be considered by the Board. Written comments or statements received after this date may not be provided to the Board until its next meeting.

Registration: Individuals who wish to attend the one or both sessions of this meeting of the Board must register with the DFO by email, the preferred method of contact, no later than March 12, using the electronic mail contact information found in the FOR FURTHER INFORMATION CONTACT section. The communication should include the registrant's full name, title, affiliation or employer, email address, and daytime phone number. If applicable, include written comments or statements with the registration email.

Brenda S. Bowen,
Army Federal Register Liaison Officer.

[FR Doc. 2014-03445 Filed 2-14-14; 8:45 am]

BILLING CODE 3720-58-P